DEPARTMENT OF THE INTERIOR

Bureau of Land Management

[WY-920-00-1320-EL, WYW141435]

Horse Creek Coal Lease Application, Wyoming

AGENCY: Bureau of Land Management, Interior.

ACTION: Notice of Availability (NOA) of Record of Decision.

SUMMARY: The Bureau of Land Management (BLM) announces the availability of the Record of Decision (ROD) for the Environmental Impact Statement (EIS) for the Horse Creek Coal Lease Application. That EIS analyzes the potential impacts of leasing and mining Federal coal on lands in Campbell County, Wyoming. BLM's decision was to approve the Selected Alternative, which analyzed the impacts of offering for competitive lease sale approximately 2,819 acres containing approximately 356 million tons of in-place Federal coal.

BLM received 13 written comments during the two scoping periods on the Horse Creek lease application. These comments are on file in the Casper and Cheyenne offices of the BLM. Nine written comments were received on the draft EIS, and these were included, with written responses, in the final EIS. The transcript of the formal hearing is on file in the Casper and Cheyenne Offices of the BLM. One written comment was received on the final EIS. All comments that were received during the process were considered in the preparation of the draft and final EIS's, and in the ROD.

BLM NOAs for the draft EIS and for the final EIS for this project were published in the Federal Register on November 12, 1999 (64 FR 61635), and on May 19, 2000 (65 FR 31898), respectively.

DATES: The ROD was signed by the Associate State Director on June 23, 2000. Parties in interest have the right to appeal that decision pursuant to 43 CFR part 4, within 30 days from the date of publication of this NOA in the Federal Register. The ROD contains instructions on taking appeals to the Interior Board of Land Appeals.

FOR FURTHER INFORMATION CONTACT: Melvin Schlagel, 307-775-6257. Copies of the ROD may be obtained from the following BLM offices: Casper Field Office, 2987 Prospector Drive, Casper, Wyoming 82604, 307-261-7600 and Wyoming State Office, 5353 Yellowstone Road, Cheyenne, Wyoming 82009, 307-775-6256.

Dated: June 23, 2000.
Phil Perlewitz,
Acting Deputy State Director, Minerals and Lands Authorization.

[FR Doc. 00-16439 Filed 6-28-00; 8:45 am]

BILLING CODE 4310-22-P